DEPARTMENT OF AGRICULTURE

Submission for OMB Review; Comment Request

October 27, 2021

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by December 1, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Floriculture Survey.

OMB Control Number: 0535-0093.

Summary of Collection: The primary objective of the National Agricultural Statistics Service is to prepare and issue State and national estimates of crop and livestock production, prices, and disposition. The Floriculture Survey was previously conducted in 17 States (Alaska, California, Colorado, Connecticut, Florida, Illinois, Michigan, Ohio, Oregon, New Jersey, New York, North Carolina, Pennsylvania, Texas, Virginia, Washington, and Wisconsin) and obtained basic agricultural statistics on production and value of floriculture products. All states are included in this renewal. The target population for this survey is all operations with production and sales of at least $10,000 of floriculture products. New floriculture operations that are discovered during the 2022 Census of Agriculture will be added to the list of potential respondents.

The retail and wholesale quantity and value of sales are collected for fresh cut flowers, potted flowering plants, foliage plants, annual bedding/garden plants, herbaceous perennials, cut cultivated florist greens, propagative floriculture material, and unfinished plants. Additional detail on area in production, operation value of sales, and agricultural workers is included. Content changes are minimal year to year, with the goal of avoiding significant changes to the survey length and respondent burden associated with each questionnaire. The only program change currently being considered involves expanding the survey to allow publishing a U.S. total, in addition to state-level totals for 28 States (Alaska, Alabama, California, Colorado, Connecticut, Florida, Georgia, Hawaii, Illinois, Indiana, Iowa, Maryland, Massachusetts, Michigan, Minnesota, New Jersey, New York, North Carolina, Ohio, Oregon, Pennsylvania, South Carolina, Tennessee, Texas, Utah, Virginia, Washington, Wisconsin). These statistics are used by the U.S. Department of Agriculture to help administer programs and by growers and marketers in making production and marketing decisions.

General authority for these data collection activities is granted under U.S. Code Title 7, Section 2204. This statute specifies that “The Secretary of Agriculture shall procure and preserve all information concerning agriculture which can be obtained by the collection of statistics . . . and shall distribute them among agriculturists”.

Need and Use of the Information: NASS obtains basic agricultural statistics on production and value of floriculture products. The target population for this survey is all operations with production and sales of at least $10,000 of floriculture products. Data collected from the survey will assess alternative agriculture opportunities and provide statistics for Federal and State agencies to monitor the use of agricultural chemicals. If the information is not collected data users could not keep abreast of changes.

Description of Respondents: Farms; Business or other-for-profit.

Number of Respondents: 14,000.

Frequency of Responses: Reporting: Annually.

Total Burden Hours: 8,223.

Levi S. Harrell,
Departmental Information Collection Clearance Officer.

[FR Doc. 2021-23728 Filed 10-29-21; 8:45 am]

BILLING CODE 3410-20-P